DEPARTMENT OF STATE

[Public Notice 4863]

Rescission of Determination Regarding Iraq

In accordance with Section 6(j) of the Export Administration Act of 1979 (50 U.S.C. App. 2405(j)), I hereby rescind the Determination of September 13, 1990 (Public Notice 1264) that Iraq is a country which has repeatedly provided support for acts of international terrorism.

This action is a further step to cement the partnership of the United States and Iraq in combating acts of international terrorism, and is an act of symbolic importance to the new Iraqi government. This rescission is appropriate although nearly all the restrictions applicable to countries that have supported terrorism, including the application of 22 U.S.C. 1605(a)(7), were made inapplicable with respect to Iraq permanently in Presidential Directive No. 2003-23 of May 7, 2003, pursuant to sec. 1503 of Pub. L. 108-11, and as affirmed in the Conference Report for Pub. L. 108-106.

This rescission shall also satisfy the provisions of section 620A(c)(1) of the Foreign Assistance Act of 1961, Pub. L. 87-195, as amended, and section 40(f)(1)(A) of the Arms Export Control Act, Pub. L. 90-629, as amended.

Dated: October 7, 2004.
Colin L. Powell,
Secretary of State, Department of State.

[FR Doc. 04-23470 Filed 10-19-04; 8:45 am]

BILLING CODE 4710-08-P